NUCLEAR REGULATORY COMMISSION

[Docket Nos. 50-413 and 50-414]

Duke Energy Corporation; Notice of Withdrawal of Application for Amendments to Facility Operating License

The U.S. Nuclear Regulatory Commission (the Commission) has granted the request of Duke Energy Corporation (the licensee) to withdraw its June 1, 2000, application for proposed amendments to Facility Operating License Nos. NPF-35 and NPF-52 for the Catawba Nuclear Station, Units No. 1 and 2, located in York County, South Carolina.

The proposed amendments would have revised the Technical Specification (TS) 3.6.16 Reactor Building and TS 5.5.11 Ventilation Filter Testing Program. It would have also revised Bases Sections 3.6.10, 3.6.16, 3.7.12, and 3.7.13.

The Commission had previously issued a Notice of Consideration of Issuance of Amendments published in the Federal Register on September 6, 2000 (65 FR 54085). However, by letter dated March 8, 2001, the licensee withdrew the proposed change.

For further details with respect to this action, see the application for amendments dated June 1, 2000, as supplemented by letter dated September 27, 2000, and the licensee's letter dated March 8, 2001, which withdrew the application for license amendments. Documents may be examined, and/or copied for a fee, at the NRC's Public Document Room, located at One White Flint North, 11555 Rockville Pike (first floor), Rockville, Maryland, and accessible electronically through the ADAMS Public Electronic Reading Room link at the NRC Web site (http://www.nrc.gov).

Dated at Rockville, Maryland, this 26th day of March 2001.
For the Nuclear Regulatory Commission
Chandu P. Patel,
Project Manager, Project Directorate II, Division of Licensing Project Management, Office of Nuclear Reactor Regulation.

[FR Doc. 01-7994 Filed 3-30-01; 8:45 am]

BILLING CODE 7590-01-P